Proclamation 8568 of September 24, 2010

National Public Lands Day, 2010

By the President of the United States of America

A Proclamation

From majestic mountain ranges to beloved neighborhood parks, Americans enjoy the natural places our ancestors have celebrated and protected for centuries. Our public lands represent the American spirit and reflect our shared experience—our history, our culture, and our deep love for wild and beautiful places. Every September, thousands of Americans volunteer their time and talents to protect our parks, national forests, wildlife refuges, and other public lands. National Public Lands Day is an occasion to join together in honor of our Nation’s unique natural treasures.

Every year, Americans take this opportunity to conserve and restore our public places. Last year, an estimated 150,000 dedicated volunteers removed litter and invasive plants; cleaned water resources; built and maintained trails; and planted trees, shrubs, and other native plants. This year, I encourage even more Americans to volunteer in local projects to have a greater impact on parks and public lands across our Nation.

Taking care of our public lands is and must continue to be a proud American tradition. In April, I hosted the White House Conference on America’s Great Outdoors to address challenges and opportunities surrounding conservation today, and to identify new ways to work together to preserve our natural bounty. I also inaugurated the America’s Great Outdoors Initiative to build a conservation agenda for the 21st century, and to reconnect Americans to our great outdoors. To do this, I instructed my Administration to participate in listening sessions around the country to hear Americans’ concerns, and to learn about what citizens and communities are doing to safeguard our land, water, and wildlife, as well as places of historic and cultural significance. As a Nation, we must engage in a new conversation about the conservation of the cherished places that have helped define us.

On this day of service and celebration, I encourage all Americans to give their time and energy to care for—and to go out and enjoy—our public lands. Together, we can build upon our history of stewardship so our unique landscapes are preserved for countless generations to come.

NOW, THEREFORE, I, BARACK OBAMA, President of the United States of America, by virtue of the authority vested in me by the Constitution and the laws of the United States, do hereby proclaim September 25, 2010, as National Public Lands Day. I invite all Americans to join me in a day of service for our public lands.

IN WITNESS WHEREOF, I have hereunto set my hand this twenty-fourth day of September, in the year of our Lord two thousand ten, and of the Independence of the United States of America the two hundred and thirty-fifth.

[FR Doc. 2010-24646

Filed 9-28-10; 11:15 am]

Billing code 3195-W0-P